DEPARTMENT OF DEFENSE

Office of the Secretary

Federal Advisory Committee; Defense Science Board 2010 Summer Study on Enhancing Adaptability of Our Military Forces

AGENCY: Department of Defense (DoD).

ACTION: Notice of advisory committee meeting.

SUMMARY: The Defense Science Board 2010 Summer Study on Enhancing Adaptability of our Military Forces will meet in closed session from August 2-13, 2010, in Lexington and Dedham, MA.

DATES: The meeting will be held August 2-13, 2010.

ADDRESSES: The meeting will be held at the MIT Lincoln Laboratory, Lexington, MA and at the Endicott House, Dedham, MA.

FOR FURTHER INFORMATION CONTACT: Maj Michael Warner, USAF, Defense Science Board, 3140 Defense Pentagon, Room 3B888A, Washington, DC 20301-3140, via e-mail at michael.warner@osd.mil, or via phone at (703) 571-0081.

SUPPLEMENTARY INFORMATION: The mission of the Defense Science Board is to advise the Secretary of Defense and the Under Secretary of Defense for Acquisition, Technology & Logistics on scientific and technical matters as they affect the perceived needs of the Department of Defense. At this meeting, the Board will discuss interim finding and recommendations resulting from ongoing Task Force activities. Members will establish defining metrics and identifying fundamental attributes of an architecture to enhance adaptability. They will also identify successful examples of adaptation, both commercial and non-commercial, and what made them successful and also unsuccessful examples and the factors which contributed to unsuccessful adaptation.

In accordance with section 10(d) of the Federal Advisory Committee Act, Public Law 92-463, as amended (5 U.S.C. App. 2) and 41 CFR 102-3.155, the Department of Defense has determined that these Defense Science Board Quarterly meetings will be closed to the public. Specifically, the Under Secretary of Defense (Acquisition, Technology and Logistics), with the coordination of the DoD Office of General Counsel, has determined in writing that all sessions of these meetings will be closed to the public because they will be concerned throughout with matters listed in 5 U.S.C. 552b(c)(1) and (4).

Interested persons may submit a written statement for consideration by the Defense Science Board. Individuals submitting a written statement must submit their statement to the Designated Federal Official (see FOR FURTHER INFORMATION CONTACT), at any point, however, if a written statement is not received at least 10 calendar days prior to the meeting, which is the subject of this notice, then it may not be provided to or considered by the Defense Science Board. The Designated Federal Official will review all timely submissions with the Defense Science Board Chairperson, and ensure they are provided to members of the Defense Science Board before the meeting that is the subject of this notice.

Dated: June 16, 2010.
Mitchell S. Bryman,
Alternate OSD Federal Register Liaison Officer, Department of Defense.

[FR Doc. 2010-14889 Filed 6-18-10; 8:45 am]

BILLING CODE 5001-06-P